DEPARTMENT OF THE INTERIOR

Bureau of Land Management

[AZ-050-00-1150-JB; 6636]

Arizona: Availability of the Draft Sonoran Pronghorn Forage Enhancement Project Environmental Assessment (EA), Yuma and Phoenix Field Offices

AGENCY: Bureau of Land Management, Interior.

ACTION: Notice of availability of the draft Sonoran Pronghorn Forage Enhancement Project Environmental Assessment (EA), Yuma and Phoenix Field Offices.

SUMMARY: The draft Sonoran Pronghorn Forage Enhancement Project Environmental Assessment (EA) evaluates the environmental impacts of a proposed project to improve habitat for the endangered Sonoran pronghorn on the Barry M. Goldwater Air Force Range. The Sonoran pronghorn was listed as an endangered subspecies in 1967. Since that time, numbers of the animal in the United States have been estimated to fluctuate between 100 and 400 animals. The population appears to be limited by low recruitment of fawns into the population. Most fawns die each year in late June and early July when the availability of green forage decreases. The proposed forage enhancement project would provide forage for pronghorn on up to 14 plots. The plots would provide native forage for pronghorn and a source of free water to aid in digestion. The plots would not be permanently established and are not meant to interfere with the normal seasonal movements of pronghorn. The project would be jointly carried out by the Arizona Game and Fish Department, Luke Air Force Base, Marine Corps Air Station, Yuma, and the Bureau of Land Management.

DATES: Comments on the draft Environmental Assessment will be accepted through March 24, 2000.

ADDRESSES: Copies of the Environmental Assessment are available upon request to: Field Manager, Bureau of Land Management, 2555 East Gila Ridge Road, Yuma, Arizona 85365. There are also copies available for review at that location and at the Yuma County Library, 350 South Third Avenue, Yuma, Arizona, 85364.

FOR FURTHER INFORMATION CONTACT: Wildlife Biologist Susanna Henry, Bureau of Land Management, 2555 East Gila Ridge Road, Yuma, Arizona, 85365, telephone (520) 317-3211.

Dated: January 31, 2000.
Gail Acheson,
Field Manager.

[FR Doc. 00-3106 Filed 2-9-00; 8:45 am]

BILLING CODE 4310-32-P